COMMODITY FUTURES TRADING COMMISSION

Sunshine Act Meetings

TIME AND DATE: 9:30 a.m. EST, Tuesday, December 8, 2020.

PLACE: Virtual meeting.

STATUS: Open.

MATTERS TO BE CONSIDERED: The Commodity Futures Trading Commission (“Commission” or “CFTC”) will hold this meeting to consider the following matters:

• Final Rule: Electronic Trading Risk Principles;

• Final Rule: Swap Execution Facilities (Audit Trail, Financial Resources, and CCO Requirements);

• Final Rule: Exemptions from Swap Trade Execution Requirement;

• Withdrawal of Unadopted Proposals in the 2018 SEF Proposed Rule: Swap Execution Facilities and Trade Execution Requirement;

• Final Rule: Part 190 Bankruptcy Regulations;

• Final Rule: Margin Requirements for Uncleared Swaps for Swap Dealers and Major Swap Participants (Minimum Transfer Amount);

• Final Rule: Margin Requirements for Uncleared Swaps for Swap Dealers and Major Swap Participants (Material Swap Exposure Definition and Initial Margin Calculation); and

• Final Rule: Revision of Certain Regulatory Provisions to Incorporate Changes in the Commission's Administrative Structure.

The agenda for this meeting will be available to the public and posted on the Commission's website at https://www.cftc.gov. Instructions for public access to the live feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: December 1, 2020.
Christopher Kirkpatrick,
Secretary of the Commission.

[FR Doc. 2020-26791 Filed 12-2-20; 11:15 am]

BILLING CODE 6351-01-P